DEPARTMENT OF THE INTERIOR

National Park Service

Establishment of a New Fee Area at Voyageurs National Park

AGENCY: National Park Service, Interior.

SUMMARY: This notice is to comply with section 804 of the Federal Lands Recreation Enhancement Act of 2004 (Pub. L. No. 108-447). The Act requires agencies to give the public advance notice (6 months) of the establishment of a new recreation fee area. Voyageurs National Park in northern Minnesota plans to collect an expanded amenity recreation fee of $35 per night for two group camp sites beginning the summer of 2007. Revenue will be used to support deferred maintenance in the campsites, to cover the cost of collections at the park, and to pay for contractor-provided reservation services.

DATES: Collection of fees will be effective 6 months from the posting of this notice.

ADDRESSES: Information requests may be submitted to Rick DeLappe; Reservation Service Program Manager by any of the following methods:

E-mail: rick_delappe@nps.gov.

Fax: 202-371-2401, Attention: Rick DeLappe

Mail: Rick DeLappe, Reservation Service Program Manager, National Park Service, 1849 C Street, NW., ORG CODE 2608, Washington, DC 20240

FOR FURTHER INFORMATION CONTACT: Kathleen Przybylski, Chief of Visitor Education and Planning, Voyageurs National Park, 3131 Highway 53, International Falls, MN 56649. (218) 283-9821 ext 6145.

SUPPLEMENTARY INFORMATION: Voyageurs National Park in northern Minnesota plans to implement expanded amenity recreation fees for two group campsites at Rainy Lake and Kabetogama Lake. These group sites are accessible only by boat and were designed to accommodate up to 30 people. Visitors will be able to reserve these sites in advance through the National Park Reservation Service (NPRS) or in person at the park on a space available basis for same day arrivals. Advanced reservation services will allow groups to guarantee that sites will be available and will provide them the ability to plan ahead. Advance reservations will also help the park manage use in a way that minimizes conflicts between visitors and increases the likelihood that these sites will be used by the large groups for which they were designed. Under the current first-come-first-served arrangement, small groups often occupy these sites displacing the larger groups who have few alternatives. The $35 fee was determined through a comparability study of similar sites in the area at both Federal and state recreation areas and will only be charged for these two group sites. The park will not charge an additional reservation fee on top of the $35 for visitors making advanced reservations through the NPRS. Individual campsites in Voyageurs National Park will remain free of charge on a first-come-first-served basis. In accordance with NPS public involvement guidelines, the park engaged numerous individuals, organizations, and local, state, and Federal government representatives while planning for the implementation of this fee.

Dated: October 30, 2006.
Mary A. Bomar,
Director National Park Service.

[FR Doc. E6-20416 Filed 12-1-06; 8:45 am]

BILLING CODE 4310-H5-P